ENVIRONMENTAL PROTECTION AGENCY

[EPA-HQ-OPPT-2010-0823; FRL-8849-5]

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from June 21, 2010 to June 30, 2010, consists of the PMNs and TME, both pending or expired, and the notices of commencement to manufacture a new chemical that the Agency has received under TSCA section 5 during this time period.

DATES: Comments identified by the specific PMN number or TME number, must be received on or before November 1, 2010.

ADDRESSES: Submit your comments, identified by docket identification (ID) number EPA-HQ-OPPT-2010-0823, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2010-0823. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2010-0823. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division (7407M), Office of Chemical Safety Pollution Prevention, Environmental Protection Agency, 1200 Pennsylvania Ave., NW., Washington, DC 20460-0001; telephone number: (202) 564-8951; fax number: (202) 564-8955; e-mail address: mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from June 21, 2010 to June 30, 2010, consists of the PMNs and TME, both pending or expired, and the notices of commencement to manufacture a new chemical that the Agency has received under TSCA section 5 during this time period.

III. Receipt and Status Report for PMNs and TME

This status report identifies the PMNs and TME, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 51 Premanufacture Notices Received From: 6/21/10 to 6/30/10
Case No. | Received Date | Projected Notice End Date | Manufacturer/Importer | Use | Chemical
P-10-0426 | 06/23/10 | 09/20/10 | CBI | (G) Intermediate | (G) Halo substituted sulfamidylbenzyluraciil.
P-10-0427 | 06/21/10 | 09/18/10 | Ivanhoe Industries, Inc. | (G) Open non-dispersive use | (G) Polglycerol ester.
P-10-0428 | 06/22/10 | 09/19/10 | CBI | (G) Open, non-dispersive use as a paint additive. | (S) 1-hexane, polymer with 1-propene, maleated.
P-10-0429 | 06/24/10 | 09/21/10 | CBI | (G) Lithographic inks | (G) Polyester acrylate.
P-10-0430 | 06/24/10 | 09/21/10 | CBI | (G) Coatings | (G) Urethane acrylate.
P-10-0431 | 06/25/10 | 09/22/10 | CBI | (G) Polyol monomer | (G) Soybean oil polyol.
P-10-0432 | 06/24/10 | 09/21/10 | Cytec Industries Inc. | (G) Coating resin | (G) Acrylated aliphatic polyurethane.
P-10-0433 | 06/29/10 | 09/26/10 | CBI | (G) Chemical intermediate for manufacturing polyurethane rubber elastomer for tires, wheels, rolls, screen, belts and other specialty urethane articles. | (G) Sodium bromide mda complex.
P-10-0434 | 06/30/10 | 09/27/10 | CBI | (G) Open-non dispersive (sizing agent) | (G) Polyurethane dispersion.
P-10-0435 | 07/01/10 | 09/28/10 | CBI | (G) Dyestuff | (G) Substituted anthraquionone derivative.
P-10-0436 | 07/02/10 | 09/29/10 | Scott Bader, Inc. | (G) Resin additive | (G) Unsaturated polyester resin.
P-10-0437 | 07/07/10 | 10/04/10 | CBI | (S) Coatings for leather; water borne industrial coatings like wood | (G) Hexamethylenediisocyanate homopolymer, alkoxy-terminated.
P-10-0438 | 07/07/10 | 10/04/10 | CBI | (G) Filler dispersant | (G) Polyacrylic polyether graft.
P-10-0439 | 06/30/10 | 09/27/10 | Sudarshan North America Inc. | (S) Use as organic colorant for colora coloration of plastics as per norms of United States Food and Drug Administration (FDA) 21 CFR 178.3297 for use at levels not to exceed 1.0% by weight of the finished polymers. The finished articles are to contact food only under conditions of use b through h as described in table 2 of 176.170(c) | (S) Benzenesulfonic acid, 4-chloro-2-([4,5-dihydro-3-methyl-5-oxo-1-(3-sulfophenyl)-1H-pyrazole-4-yl)azo]-5-methyl, calcium salt (1:1).
P-10-0440 | 07/09/10 | 10/06/10 | CBI | (G) Open, non dispersive coating | (G) Polyester.
P-10-0441 | 07/09/10 | 10/06/10 | CBI | (G) Urethane component | (G) Oil, epoxidized, reaction product with oleic acid.
P-10-0442 | 07/12/10 | 10/09/10 | CBI | (G) Synthetic leather manufacture | (G) MDI modified resin.
P-10-0443 | 07/12/10 | 10/09/10 | CBI | (G) Printing additive | (G) Carbomonocyclic dicarboxylic acid, polymer with 1,2-ethanediol, 2-ethyl-2-(hydrooxymethyl)-1,3-propane derivatives, 4,4′-(1-methylethylidene)bis[cyclohexanol] and 1,2,3-propanetriol.
P-10-0444 | 07/13/10 | 10/10/10 | CBI | (S) Binder additive for specialty coatings | (G) Siloxane ester.
P-10-0445 | 07/13/10 | 10/10/10 | CBI | (G) Resin will be used in coatings sold to industrial customers who will apply the coatings to can and closures | (G) Solvent-based acrylic resin.
P-10-0446 | 07/13/10 | 10/10/10 | Robertet, Inc. | (S) As an odoriferous component of fragrance compounds | (S) Terpenes and terpenoids, mint, metha arvensis-oil, acetylated.
P-10-0447 | 07/13/10 | 10/10/10 | Kemira Chemicals, Inc. | (S) Scale inhibitor | (G) Carboxylic acid / sulfonate copolymer, ammonium salt.
P-10-0448 | 07/06/10 | 10/03/10 | Eastman Chemical Company | (G) Chemical intermediate | (S) 1,4-benzenedicarboxylic acid, 1,4-dimethyl ester, polymer with 1,4-cyclohexanedimethanol and 2,2,4,4-tetramethyl-1,3-cyclobutanediol, manufacture of, by-products from, reaction products with ethylene glycol.
P-10-0449 | 07/14/10 | 10/11/10 | Newchem Incorporated | (G) Resin base for filler-paste | (G) Polyester resin.
P-10-0450 | 07/19/10 | 10/16/10 | CBI | (G) Open, non-dispersive use | (G) Acrylic silane polymer.
P-10-0451 | 07/19/10 | 10/16/10 | CBI | (G) Open, non-dispersive use | (G) Acrylic silane polymer.
P-10-0452 | 07/19/10 | 10/16/10 | Huntsman Corporation | (S) Epoxy curing agent | (S) Poly[oxy(methyl-1,2-ethanediyl)], .alpha.,.alpha.′-[1,4-cyclohexanediylbis(methylene)]bis[.omega.-(2-aminoethylethoxy)-.
P-10-0453 | 07/19/10 | 10/16/10 | Huntsman Corporation | (S) Epoxy curing agent | (S) Poly[oxy(methyl-1,2-ethanediyl)], .alpha.,.alpha.′-(2,2-dimethyl-1,3-propanediyl)bis[.omega.-(2-aminoethylethoxy)-.
P-10-0454 | 07/19/10 | 10/16/10 | International Specialty Products | (G) Destructive use, chemical intermediate | (S) 1,3-divinyl imidazolidin-2-one.
P-10-0455 | 07/20/10 | 10/17/10 | Honeywell | (S) Intermediate | (G) Hexahalosubstituted alkane.
P-10-0456 | 07/21/10 | 10/18/10 | CBI | (S) Fuel additive | (G) Alkenes, polymer with anhydride esters.
P-10-0457 | 07/20/10 | 10/17/10 | Honeywell | (S) Intermediate | (G) Pentahalosubstituted alkane.
P-10-0458 | 07/20/10 | 10/17/10 | Cognis Corporation | (G) The pmn substance will be used as an adjuvant in the production of paper. | (S) Fatty acids, C14-18 and C16-18-unsaturated, polymers with adipic acid and triethanolamine, di-me sulfate-quaternized.
P-10-0459 | 07/22/10 | 10/19/10 | Instrumental Polymer Technologies, LLC | (S) Base polymer for coatings | (S) Carbonic acid, dimethyl ester, polymer with 2-ethyl-2-(hydroxymethyl)-1,3-propanediol and 1,3-propanediol.
P-10-0460 | 07/26/10 | 10/23/10 | CBI | (S) Lubricant | (G) Fatty acids, reaction product with adipic and trifunctional alcohol.
P-10-0461 | 07/26/10 | 10/23/10 | CBI | (G) Ingredient for coatings | (G) Polyalkylene carbonatediol.
P-10-0462 | 07/22/10 | 10/19/10 | Forbo Adhesives, LLC | (G) Hot melt adhesive | (G) Isocyanate functional polyester urethane polymer.
P-10-0463 | 07/23/10 | 10/20/10 | Lubrigreen | (G) Biobased lubricant base oil | (S) 9-octadecenoic acid (9Z)-, 2-ethylhexyl ester.
P-10-0464 | 07/23/10 | 10/20/10 | Lubrigreen | (G) Biobased lubricant base oil | (S) 9-octadecenoic acid, 2-ethylhexyl ester, (9E).
P-10-0465 | 07/23/10 | 10/20/10 | Lubrigreen | (G) Biobased lubricant base oil | (S) 9-octadecenoic acid (9Z)-, dimer, 2-ethylhexyl ester, isomerized.
P-10-0466 | 07/23/10 | 10/20/10 | Lubrigreen | (G) Biobased lubricant base oil | (S) 9-octadecenoic acid (9Z)-, homopolymer, 2-ethylhexyl ester, isomerized.
P-10-0467 | 07/26/10 | 10/23/10 | CBI | (G) Two component polyurethane coatings and paints | (G) Aliphatic polyisocyanate.
P-10-0468 | 07/26/10 | 10/23/10 | CBI | (G) Two component polyurethane coatings and paints | (G) Aliphatic polyisocyanate.
P-10-0469 | 07/27/10 | 10/24/10 | Evonik Degussa | (G) Monomer for polymer applications | (G) Alkenoyloxy arylphenone.
P-10-0470 | 07/28/10 | 10/25/10 | CBI | (G) Additive, open, non-dispersive use | (G) Fluoro modified, polyether modified and alkyl modified polymethylsiloxane.
P-10-0471 | 07/28/10 | 10/25/10 | CBI | (G) Additive, open, non-dispersive use | (G) Fluoro modified polyether modified polyacrylate.
P-10-0472 | 07/28/10 | 10/25/10 | CBI | (G) Additive, open, non-dispersive use | (G) Fluoro modified polyether modified polyacrylate.
P-10-0473 | 07/28/10 | 10/25/10 | CBI | (G) An open, non-dispersive use in coating formulation | (G) Polycarbonate and polyester-type polyurethane.
P-10-0474 | 07/28/10 | 10/25/10 | Cardolite Corporation | (S) Amine based epoxy curing agent for 2-part epoxy surface coating | (G) Pentadecynl phenol polyamide.
P-10-0475 | 07/28/10 | 10/25/10 | Cardolite Corporation | (S) Amine based epoxy curing agent for 2-part epoxy surface coating | (G) Pentadecynl phenol polyamide.
P-10-0476 | 07/28/10 | 10/25/10 | CBI | (G) Polymer additive | (G) Brominated styrene butadiene polymer.

In Table II of this unit, EPA provides the following information (to the extent that such information is not claimed as CBI) on the TMEs received:

II. 1 Test Marketing Exemption Notice Received From: 06/21/10 to 06/30/10
Case No. | Received Date | Projected Notice End Date | Manufacturer/Importer | Use | Chemical
T-10-0005 | 07/01/10 | 08/14/10 | Cytec industries Inc. | (G) Coatings resin | (G) Acrylated aliphatic polyurethane.

In Table III of this unit, EPA provides the following information (to the extent that such information is not claimed as CBI) on the Notices of Commencement to manufacture received:

II. 44 Notices of Commencement From: 6/21/10 to 6/30/10
Case No. | Received Date | Commencement Notice End Date | Chemical
P-03-0534 | 06/28/10 | 05/11/10 | (G) Propoxylated tallow polypropylene polyamine.
P-05-0281 | 06/23/10 | 06/07/10 | (G) Aliphatic cyclocarbonate.
P-08-0117 | 07/09/10 | 06/30/10 | (G) Bisphenol A / epichlorohydrin epoxy polymer reaction product with amines, neutralized with methane sulfonic acid.
P-08-0187 | 07/07/10 | 06/24/10 | (S) D-glucopyranose, oligomeric, C10-16-alkyl glycosides, 3-(dodecyldimethylammonio)-2-hydroxypropyl ethers, chlorides.
P-08-0188 | 07/07/10 | 06/22/10 | (S) D-glucopyranose, oligomeric, decyl octyl glycosides, 3-(dimethyloctadecylammonio)-2-hydroxypropyl ethers, chlorides.
P-08-0435 | 07/13/10 | 06/27/10 | (G) Aminosilane ester.
P-08-0436 | 07/13/10 | 07/10/10 | (G) Alkoxysilane-modified polyalkyleneoxide polymer.
P-08-0491 | 07/20/10 | 07/02/10 | (G) Reaction product of substituted naphthalenesulfonic acid triazin amino compound and substituted naphthalenesulfonic acid substitued triazin phenyl alkyl sulfonyl compound.
P-09-0188 | 06/24/10 | 05/24/10 | (G) Carbon nanomaterial.
P-09-0202 | 07/07/10 | 07/06/10 | (G) N-alkyl pyrrolidinedione derivative.
P-09-0304 | 06/24/10 | 06/02/10 | (G) Propanamine blocked polymeric isocyanate.
P-09-0309 | 06/30/10 | 06/25/10 | (G) Unsaturated polyester polymer.
P-09-0311 | 06/30/10 | 06/25/10 | (G) Unsaturated polyester polymer.
P-09-0370 | 07/30/10 | 06/29/10 | (G) Polyester modified MDI prepolymer.
P-09-0417 | 07/12/10 | 07/04/10 | (S) Short tangled multi-wall carbon nanotubes obtained by catalytical chemical vapour deposition.
P-09-0648 | 07/28/10 | 07/10/10 | (G) Dimer fatty acid based polyester polyether polyurethane.
P-10-0033 | 07/27/10 | 06/22/10 | (G) Aromatic hydrogenated poly alkyldiene containing poly alkyl methacrylate.
P-10-0048 | 07/19/10 | 06/17/10 | (G) Sulfonated SMA.
P-10-0065 | 07/06/10 | 06/26/10 | (G) Polyether modified polyurea.
P-10-0069 | 07/09/10 | 06/11/10 | (G) Alkyl acrylate, polymer with aliphatic acid vinyl ester, vinyl monomer, acrylate and hydroxyalkyl acrylate.
P-10-0070 | 07/19/10 | 06/27/10 | (G) Acrylate, polymer with aliphatic acid vinyl ester, vinyl monomer and hydroxyalkyl acrylate.
P-10-0088 | 07/28/10 | 07/21/10 | (G) Polyphosphonate-co-polycarbonate.
P-10-0137 | 07/26/10 | 07/06/10 | (G) Substituted polyethyleneimine.
P-10-0138 | 07/30/10 | 07/15/10 | (G) Long chain alkylacrylate, homopolymers.
P-10-0139 | 07/30/10 | 07/15/10 | (G) Long chain alkylacrylate, homopolymers.
P-10-0153 | 06/29/10 | 06/17/10 | (S) 1H-imidazole, 1-(1-methylethyl)-.
P-10-0154 | 06/30/10 | 06/03/10 | (S) Quinoline, 1-butyl-1,2,3,4-tetrahydro-.
P-10-0171 | 06/29/10 | 06/24/10 | (S) 1H-imidazolium, 1,3-bis(1-methylethyl)-, bromide.
P-10-0172 | 07/27/10 | 07/13/10 | (S) 1H-imidazolin, 1,3-bis(1-methylethyl)-, hydroxide.
P-10-0203 | 07/12/10 | 07/01/10 | (G) Aqueous, aliphatic polyurethane dispersion.
P-10-0204 | 07/19/10 | 06/29/10 | (G) Acrylate capped polyurethane oligomer.
P-10-0220 | 07/01/10 | 06/19/10 | (S) 3-buten-2-one, 4-ethoxy-1,1,1-trifluoro-, (3E)-.
P-10-0233 | 06/22/10 | 06/03/10 | (G) Monoalkylaryl alkoxylate.
P-10-0235 | 07/20/10 | 07/12/10 | (S) Pyridine, 4-decyl-.
P-10-0238 | 07/20/10 | 07/13/10 | (S) Benzoic acid, 3-[[(methylamino)thioxomethyl]amino]-.
P-10-0244 | 06/29/10 | 06/18/10 | (G) Epoxy modified polyurethane prepolymer.
P-10-0264 | 07/12/10 | 06/17/10 | (G) Methacrylate ester of fatty alcohol alkoxylate.
P-10-0272 | 07/09/10 | 06/30/10 | (S) Oils, Macrocystic pyrifera. Definition: Extracts and their physically modified derivatives. Macrocystic pyrifera.
P-10-0274 | 07/23/10 | 06/23/10 | (G) 1,1′-methylenebis[isocyanatobenzene], polymer with polyester polyols and a polyether polyol.
P-10-0284 | 07/19/10 | 06/20/10 | (G) Aromatic boron ester.
P-10-0301 | 07/13/10 | 07/09/10 | (S) Oil, Laminaria digitata. Definition: Extractives and their physically modified derivatives. Laminaria digitata.
P-10-0319 | 07/26/10 | 07/19/10 | (G) Aromatic halogenated acid, polymer with a halogenated aromatic diamine and an aromatic phenolic amine.
P-10-0320 | 07/26/10 | 07/09/10 | (G) Aromatic dianhydride, polymer with an aromatic diamine and an aliphatic unsaturated ester.
P-10-0330 | 07/27/10 | 07/13/10 | (G) Trimethylpentene oxymethylpropyl ester of cyclopropanecarboxylic acid.

List of Subjects

Environmental protection, Chemicals, Premanufacturer notices.

Dated: September 23, 2010.
Chandler Sirmons,
Acting Director, Information Management Division, Office of Pollution Prevention and Toxics.

[FR Doc. 2010-24558 Filed 9-29-10; 8:45 am]

BILLING CODE 6560-50-S